DEPARTMENT OF TRANSPORTATION

Federal Highway Administration

[Docket No. FHWA-2009-0113]

Agency Information Collection Activities: Request for Comments for New Information Collection

Correction

In notice document E9-28411 beginning on page 62381 in the issue of Friday, November 27, 2009, make the following correction:

On page 62381, in the second column, under the DATES section, in the second line, “November 27, 2009” should read “ January 26, 2010”.

[FR Doc. Z9-28411 Filed 12-03-09; 8:45 am]

BILLING CODE 1505-01-D